NATIONAL SCIENCE FOUNDATION

Advisory Committee for Mathematical and Physical Sciences; Notice of Meeting

In accordance with Federal Advisory Committee Act (Pub. L. 92-463, as amended), the National Science Foundation announces the following meeting:

Name: Mathematical and Physical Sciences Advisory Committee (#66).

Date/Time: November 7, 2007 1:30 p.m.-4 p.m.; November 8, 2007 8 a.m.-6 p.m.; November 9, 2007 8 a.m.-3 p.m.

Place: National Science Foundation, 4201 Wilson Boulevard, Arlington, VA 22230, November 7-8, Room 375, November 9, Room 1235.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Briefing to new members about NSF and Directorate.

Update on current status of Directorate.

Meeting of MPSAC with Divisions within MPS Directorate.

Reports of the NSF Working Group on Broadening Participation and the NSF Working Group on the Impact of Proposal and Award Management Mechanisms.

Discussion of MPS Long-term Planning Activities.

Summary Minutes: May be obtained from the contact person listed above.

Dated: October 5, 2007.
Susanne E. Bolton,
Committee Management Officer.

[FR Doc. E7-20038 Filed 10-10-07; 8:45 am]

BILLING CODE 7555-01-P